DEPARTMENT OF LABOR

Employment and Training Administration

[TA-W-41,761]

Glen Oaks Industries, Inc., Dallas, Texas; Formerly Employed at Marietta Sportswear Manufacturing Co., Inc., Marietta, Oklahoma; Amended Certification Regarding Eligibility to Apply for Worker Adjustment Assistance

In accordance with section 223 of the Trade Act of 1974 (19 U.S.C. 2273) the Department of Labor issued a Certification of Eligibility to Apply for Worker Adjustment Assistance on August 29, 2002, applicable to workers of Glen Oaks Industries, Inc., Marietta Sportswear Manufacturing Co., Inc., Dallas, Texas. The notice will be published soon in the Federal Register.

At the request of the company, the Department reviewed the certification for workers of the subject firm. New information shows that worker separations occurred involving employees of Glen Oaks Industries, Inc., Dallas, Texas, formerly employed at Marietta Sportswear Manufacturing Co., Inc. Marietta, Oklahoma. The employees were engaged in employment related to the production of men's dress slacks until the plant closed in February, 2002.

The intent of the Department's certification is to include all workers of Glen Oaks Industries, Inc., Dallas, Texas, formerly employed at Marietta Sportswear Manufacturing Co., Inc., Marietta, Oklahoma who were adversely affected by increased imports.

Accordingly, the Department is amending the certification to properly reflect this matter.

The amended notice applicable to TA-W-41,761 is hereby issued as follows:

All workers of Glen Oaks Industries, Inc., Dallas, Texas, formerly employed at Marietta Sportswear Manufacturing Co., Inc., Marietta, Oklahoma, who became totally or partially separated from employment on or after June 13, 2001, through August 29, 2004, are eligible to apply for adjustment assistance under section 223 of the Trade Act of 1974.

Signed at Washington, DC this 25th day of September, 2002.
Richard Church,
Certifying Officer, Division of Trade Adjustment Assistance.

[FR Doc. 02-26753 Filed 10-21-02; 8:45 am]

BILLING CODE 4510-30-P